DEPARTMENT OF THE INTERIOR

Minerals Management Service

[Docket No. MMS-2009-OMM-0015]

MMS Information Collection Activity: 1010-0051, Oil and Gas Production Measurement, Extension of a Collection; Submitted for Office of Management and Budget (OMB) Review; Comment Request

AGENCY: Minerals Management Service (MMS), Interior.

ACTION: Notice of extension of an information collection (1010-0051).

SUMMARY: To comply with the Paperwork Reduction Act of 1995 (PRA), we are notifying the public that we have submitted to OMB an information collection request (ICR) to renew approval of the paperwork requirements in the regulations under 30 CFR 250, subpart L, “Oil and Gas Production Measurement,” and related documents. This notice also provides the public a second opportunity to comment on the paperwork burden of these regulatory requirements.

DATES: Submit written comments by June 18, 2010.

ADDRESSES: You should submit comments directly to the Office of Information and Regulatory Affairs, OMB, Attention: Desk Officer for the Department of the Interior (1010-0051), either by fax (202) 395-5806 or e-mail (OIRA_DOCKET@omb.eop.gov).

Please also send a copy to MMS by either of the following methods:

• Electronically go to: http://www.regulations.gov. In the entry titled “Enter Keyword or ID,” enter docket ID MMS-2009-OMM-0015 then click search. Follow the instructions to submit public comments and view supporting and related materials available for this collection of information. Include your name and address. Submit comments to regulations.gov no later than June 18, 2010. The MMS will post all comments.

• Mail or hand-carry comments to the Department of the Interior; Minerals Management Service; Attention: Cheryl Blundon; 381 Elden Street, MS-4024; Herndon, Virginia 20170-4817. Please reference “Information Collection 1010-0051” in your comment and include your name and address.

FOR FURTHER INFORMATION CONTACT: Cheryl Blundon, Regulations and Standards Branch, (703) 787-1607. You may also contact Cheryl Blundon to obtain a copy, at no cost, of the regulations that require the subject collection of information.

SUPPLEMENTARY INFORMATION:

Title: 30 CFR 250, subpart L, Oil and Gas Production Measurement.

OMB Control Number: 1010-0051.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. The Federal Oil and Gas Royalty Management Act of 1982 (30 U.S.C. 1701, et seq.) at section 1712(b)(2) prescribes that an operator will “develop and comply with such minimum site security measures as the Secretary deems appropriate, to protect oil or gas produced or stored on a lease site or on the Outer Continental Shelf from theft.” Regulations at 30 CFR part 250, subpart L, implement these statutory requirements. We use the information to ensure that the volumes of hydrocarbons produced are measured accurately, and royalties are paid on the proper volumes. Specifically, MMS needs the information to:

• Determine if measurement equipment is properly installed, provides accurate measurement of production on which royalty is due, and is operating properly;

• Obtain rates of production data in allocating the volumes of production measured at royalty sales meters, which can be examined during field inspections;

• Ascertain if all removals of oil and condensate from the lease are reported;

• Determine the amount of oil that was shipped when measurements are taken by gauging the tanks rather than being measured by a meter;

• Ensure that the sales location is secure and production cannot be removed without the volumes being recorded; and

• Review proving reports to verify that data on run tickets are calculated and reported accurately.

The MMS will protect information from respondents considered proprietary under the Freedom of Information Act (5 U.S.C. 552) and its implementing regulations (43 CFR part 2) and under regulations at 30 CFR 250.197, Data and information to be made available to the public or for limited inspection, and 30 CFR part 252, OCS Oil and Gas Information Program. No items of a sensitive nature are collected. Responses are mandatory.

Frequency: Varies by section, but primarily monthly, or on occasion.

Description of Respondents: Respondents comprise Federal oil, gas and sulphur lessees and/or operators.

Estimated Reporting and Recordkeeping Hour Burden: The estimated annual hour burden for this information collection is a total of 32,957 hours. The following chart details the individual components and estimated hour burdens. In calculating the burdens, we assumed that respondents perform certain requirements in the normal course of their activities. We consider these to be usual and customary and took that into account in estimating the burden.

Citation 30 CFR 250 Subpart L | Reporting or recordkeeping requirement | Non-hour cost burdens: Hour burden | Non-hour cost burdens: Average number of annual responses | Non-hour cost burdens: Annual burden hours (rounded)
Liquid Hydrocarbon Measurement
1202(a)(1), (b)(1); 1203(b)(1); 1204(a)(1) | Submit application for liquid hydrocarbon or gas measurement procedures or changes; or for commingling of production or changes | 24.5 | 196 applications | 4,802
Simple |  | $1,271 simple fee × 55 applications = $69,905.
Complex |  | $3,760 complex fee × 141 applications = $530,160.
No fee | Submit meter status and replacement notifications | 5 | 412 notifications | 2,060
1202(a)(4) | Copy & send pipeline (retrograde) condensate volumes upon request | 1.2 | 40 volumes | 48
1202(c)(1), (2); 1202(e)(4); 1202(h)(1), (2), (3), (4); 1202(i)(1)(iv), (2)(iii); 1202(j) | Record observed data, correction factors & net standard volume on royalty meter and tank run tickets Record master meter calibration runs Record mechanical-displacement prover, master meter, or tank prover proof runs Record liquid hydrocarbon royalty meter malfunction and repair or adjustment on proving report; record unregistered production on run ticket List Cpl and Ctl factors on run tickets | Respondents record these items as part of normal business records & practices to verify accuracy of production measured for sale purposes |  | 0
1202(c)(4)* | Copy & send all liquid hydrocarbon run tickets monthly | 10 minutes | 20,034 tickets | 3,339
1202(d)(4); 1204(b)(1) | Request approval for proving on a schedule other than monthly; request approval for well testing on a schedule other than every 60 days | 2 | 550 requests | 1,100
1202(d)(5)* | Copy & submit liquid hydrocarbon royalty meter proving reports monthly & request waiver as needed | 15 minutes | 8,867 reports/requests | 2,217
1202(f)(2)* | Copy & submit mechanical-displacement prover & tank prover calibration reports | 16.5 minutes | 74 reports | 20
1202(l)(2)* | Copy & submit royalty tank calibration charts before using for royalty measurement | 45 minutes | 8 charts | 6
1202(l)(3)* | Copy & submit inventory tank calibration charts upon request; retain charts for as long as tanks are in use | 45 minutes | 5 charts | 4
|  | 10 minutes | 82 charts | 14
Subtotal | 30,268 responses | 13,610 hours.
| $600,065 non-hour cost burdens.
Gas Measurement
1203(b)(6), (8), (9)* | Copy & submit gas quality and volume statements monthly or as requested (most will be routine; few will take longer) | 15 minutes | 21,792 Statements | 5,448
|  | 36 minutes | 48 | 29
1203(c)(1) | Request approval for proving on a schedule other than monthly | 1.2 | 546 requests | 655
1203(c)(4)* | Copy & submit gas meter calibration reports upon request; retain for 2 years | 13 minutes | 44 reports | 10
|  | 7.5 minutes | 19,290 reports | 2,411
1203(e)(1)* | Copy & submit gas processing plant records upon request | 1.2 | 4 records | 5
1203(f)(5) | Copy & submit measuring records of gas lost or used on lease upon request | 42 minutes | 24 records | 17
Subtotal | 41,748 responses | 8,575 hours.
Surface Commingling
1204(a)(2) | Provide state production volumetric and/or fractional analysis data upon request | 6 | 1 report | 6
1205(a)(2) | Post signs at royalty or inventory tank used in royalty determination process | 2 | 85 signs | 170
1205(a)(4) | Report security problems (telephone) | 18 minutes | 2 calls | 1
Subtotal | 88 responses | 177 hours.
Miscellaneous and Recordkeeping
1200 thru 1205 | General departure and alternative compliance requests not specifically covered elsewhere in subpart L | 1.3 | 60 requests | 78
1202(e)(6) | Retain master meter calibration reports for 2 years | 23 minutes | 1,420 | 544
1202(k)(5) | Retain liquid hydrocarbon allocation meter proving reports for 2 years | 10 minutes | 10,875 | 1,813
1203(f)(4) | Document & retain measurement records on gas lost or used on lease for 2 years at field location and minimum 7 years at location of respondent's choice | 15 minutes | 4,045 | 1,011
1204(b)(3) | Retain well test data for 2 years | 6.7 minutes | 57,400 | 6,410
1205(b)(3), (4) | Retain seal number lists for 2 years | 5 minutes | 8,870 | 739
Subtotal | 82,670 responses | 10,595 hours.
Total Burden | 154,774 responses | 32,957 hours.
| $600,065 Non-Hour Cost Burdens.

Estimated Reporting and Recordkeeping Non-Hour Cost Burden: We have identified two non-hour cost burdens, both of which are cost recovery fees. Note that the actual fee amounts are specified in 30 CFR 250.125, which provide a consolidated table of all the fees required under the 30 CFR part 250 regulations. The non-hour cost burden total in this collection of information is an estimated $600,065. The cost burdens are for: (1) Filing fees associated with submitting requests for approval of simple applications (applications to temporarily reroute production (for a duration not to exceed 6 months); production tests prior to pipeline construction; departures related to meter proving, well testing, or sampling frequency ($1,271 per application)) or, (2) submitting a request for approval of a complex application (creation of new facility measurement points (FMPs); association of leases or units with existing FMPs; inclusion of production from additional structures; meter updates which add buyback gas meters or pigging meters; other applications which request deviations from the approved allocation procedures ($3,760 per application)).

We have not identified any other non-hour paperwork cost burdens associated with this collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on November 3, 2009, we published a Federal Register notice (74 FR 56858) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. The OMB has up to 60 days to approve or disapprove the information collection but may respond after 30 days. Therefore, to ensure maximum consideration, OMB should receive public comments by June 18, 2010.

Public Availability of Comments: Before including your address, phone number, email address, or other personal identifying information in your comment, you should be aware that your entire comment—including your personal identifying information—may be made publicly available at any time. While you can ask us in your comment to withhold your personal identifying information from public review, we cannot guarantee that we will be able to do so.

MMS Information Collection Clearance Officer: Arlene Bajusz, (202) 208-7744.

Dated: April 1, 2010.
Doug Slitor,
Acting Chief, Office of Offshore Regulatory Programs.

[FR Doc. 2010-11921 Filed 5-18-10; 8:45 am]

BILLING CODE 4310-MR-P